DEPARTMENT OF HOMELAND SECURITY

Bureau of Customs and Border Protection

[CBP Decision 03-20]

Customs Approval of BSI Inspectorate America Corporation as a Commercial Gauger

AGENCY: Customs and Border Protection, Department of Homeland Security.

ACTION: Notice of Approval of BSI Inspectorate America Corporation of Tallaboa-Penuelas, Puerto Rico, as a Commercial Gauger.

SUMMARY: BSI Inspectorate America Corporation of Tallaboa-Penuelas, Puerto Rico has applied to Customs and Border Protection under Part 151.13 of the Customs Regulations for approval as a commercial gauger to gauge petroleum products, animal and vegetable oils, and organic compounds. Customs has determined that this company meets all of the requirements for approval as a commercial gauger. Specifically, BSI Inspectorate America Corporation has been granted approval to gauge petroleum product under Chapter 27 and Chapter 29, animal and vegetable oils under Chapter 15 and organic compounds under Chapter 29 of the Harmonized Tariff Schedule of the United States (HTSUS). Therefore, in accordance with Part 151.13 of the Customs Regulations, BSI Inspectorate America Corporation of Tallaboa-Penuelas, Puerto Rico, is hereby approved to gauge the products named above.

Location: BSI Inspectorate America Corporation accredited site is located at: Bo. Encarnacion Road 127 Km 19.1, Tallaboa-Penuelas, Puerto Rico 00624.

Effective Date: July 17, 2003.

FOR FURTHER INFORMATION CONTACT: Arlene Faustermann, Science Officer, Laboratories and Scientific Services, Customs and Border Protection, 1300 Pennsylvania Avenue NW., Suite 1500 North, Washington, DC 20229, (202) 927-1060.

Dated: July 17, 2003.
Donald A. Cousins,
Acting Executive Director, Laboratories and Scientific Services.

[FR Doc. 03-21465 Filed 8-20-03; 8:45 am]

BILLING CODE 4820-02-P